DEPARTMENT OF ENERGY

Federal Energy Regulatory Commission

Combined Notice Of Filings #1

Take notice that the Commission received the following electric rate filings:

Docket Numbers: ER04-1164-001.

Applicants: NRG Wholesale Generation LP.

Description: Informational Filing of NRG Wholesale Generation LP regarding planned transfer of the Seward Generating Station.

Filed Date: 11/25/15.

Accession Number: 20151125-5423.

Comments Due: 5 p.m. ET 12/16/15.

Docket Numbers: ER10-2331-049; ER14-630-025; ER10-2319-040; ER10-2317-040; ER13-1351-022; ER10-2330-047.

Applicants: J.P. Morgan Ventures Energy Corporation, AlphaGen Power LLC, BE Alabama LLC, BE CA LLC, Florida Power Development LLC, Utility Contract Funding, L.L.C.

Description: Notice of Non-Material Change in Status of JPMorgan Sellers.

Filed Date: 12/4/15.

Accession Number: 20151204-5143.

Comments Due: 5 p.m. ET 12/28/15.

Docket Numbers: ER16-98-002.

Applicants: Windom Transmission, LLC.

Description: Tariff Amendment: Amendmendments to Filings of Transmission and Interconnection Agreements to be effective 12/15/2015.

Filed Date: 12/4/15.

Accession Number: 20151204-5000.

Comments Due: 5 p.m. ET 12/28/15.

Docket Numbers: ER16-100-001.

Applicants: Windom Transmission, LLC.

Description: Tariff Amendment: Amendments to Filings of Transmission and Interconnection Agreements to be effective 12/15/2015.

Filed Date: 12/4/15.

Accession Number: 20151204-5001.

Comments Due: 5 p.m. ET 12/28/15.

Docket Numbers: ER16-101-001.

Applicants: Windom Transmission, LLC.

Description: Tariff Amendment: Amendments to Filings of Transmission and Interconnection Agreements to be effective 12/15/2015.

Filed Date: 12/4/15.

Accession Number: 20151204-5002.

Comments Due: 5 p.m. ET 12/28/15.

Docket Numbers: ER16-102-001.

Applicants: Windom Transmission, LLC.

Description: Tariff Amendment: Amendments to Filings of Transmission and Interconnection Agreements to be effective 12/15/2015.

Filed Date: 12/4/15.

Accession Number: 20151204-5003.

Comments Due: 5 p.m. ET 12/28/15.

Docket Numbers: ER16-103-001.

Applicants: Windom Transmission, LLC.

Description: Tariff Amendment: Amendments to Filings of Transmission and Interconnection Agreements to be effective 12/15/2015.

Filed Date: 12/4/15.

Accession Number: 20151204-5004.

Comments Due: 5 p.m. ET 12/28/15.

Docket Numbers: ER16-104-001.

Applicants: Windom Transmission, LLC.

Description: Tariff Amendment: Amendments to Filings of Transmission and Interconnection Agreements to be effective 12/15/2015.

Filed Date: 12/4/15.

Accession Number: 20151204-5005.

Comments Due: 5 p.m. ET 12/28/15.

Docket Numbers: ER16-105-001.

Applicants: Windom Transmission, LLC.

Description: Tariff Amendment: Amendments to Filings of Transmission and Interconnection Agreements to be effective 12/15/2015.

Filed Date: 12/4/15.

Accession Number: 20151204-5006.

Comments Due: 5 p.m. ET 12/28/15.

Docket Numbers: ER16-106-001.

Applicants: Windom Transmission, LLC.

Description: Tariff Amendment: Amendments to Filings of Transmission and Interconnection Agreements to be effective 12/15/2015.

Filed Date: 12/4/15.

Accession Number: 20151204-5007.

Comments Due: 5 p.m. ET 12/28/15.

Docket Numbers: ER16-107-001.

Applicants: Windom Transmission, LLC.

Description: Tariff Amendment: Amendments to Filings of Transmission and Interconnection Agreements to be effective 12/15/2015.

Filed Date: 12/4/15.

Accession Number: 20151204-5008.

Comments Due: 5 p.m. ET 12/28/15.

Docket Numbers: ER16-108-001.

Applicants: Windom Transmission, LLC.

Description: Tariff Amendment: Amendments to Filings of Transmission and Interconnection Agreements to be effective 12/15/2015.

Filed Date: 12/4/15.

Accession Number: 20151204-5010.

Comments Due: 5 p.m. ET 12/28/15.

Docket Numbers: ER16-109-001.

Applicants: Windom Transmission, LLC.

Description: Tariff Amendment: Amendments to Filings of Transmission and Interconnection Agreements to be effective 12/15/2015.

Filed Date: 12/4/15.

Accession Number: 20151204-5011.

Comments Due: 5 p.m. ET 12/28/15.

Docket Numbers: ER16-110-001.

Applicants: Windom Transmission, LLC.

Description: Tariff Amendment: Amendments to Filings of Transmission and Interconnection Agreements to be effective 12/15/2015.

Filed Date: 12/4/15.

Accession Number: 20151204-5009.

Comments Due: 5 p.m. ET 12/28/15.

Docket Numbers: ER16-213-001.

Applicants: Midcontinent Independent System Operator, Inc.

Description: Tariff Amendment: 2015-12-03_Amended RSG/RNU Netting Filing to be effective 1/15/2016.

Filed Date: 12/3/15.

Accession Number: 20151203-5196.

Comments Due: 5 p.m. ET 12/14/15.

Docket Numbers: ER16-460-000.

Applicants: Southwest Power Pool, Inc.

Description: § 205(d) Rate Filing: 3131 Prairie Breeze Wind Energy III GIA to be effective 11/5/2015.

Filed Date: 12/4/15.

Accession Number: 20151204-5060.

Comments Due: 5 p.m. ET 12/28/15.

Docket Numbers: ER16-461-000.

Applicants: Southwest Power Pool, Inc.

Description: § 205(d) Rate Filing: 2014 Southwestern Power Administration Amendatory Agreement Second Extension to be effective 12/1/2015.

Filed Date: 12/4/15.

Accession Number: 20151204-5087.

Comments Due: 5 p.m. ET 12/28/15.

Docket Numbers: ER16-462-000.

Applicants: ISO New England Inc., New England Power Pool Participants Committee.

Description: § 205(d) Rate Filing: MR1 Revisions to Cost Allocation Rules of the Winter Reliability Program to be effective 12/15/2015.

Filed Date: 12/4/15.

Accession Number: 20151204-5096.

Comments Due: 5 p.m. ET 12/28/15.

Docket Numbers: ER16-463-000.

Applicants: Midcontinent Independent System Operator, Inc., Ameren Illinois Company.

Description: § 205(d) Rate Filing: 2015-12-04_SA 2765 MidAmerican-Ameren Illinois 1st Rev TIA to be effective 12/31/9998.

Filed Date: 12/4/15.

Accession Number: 20151204-5128.

Comments Due: 5 p.m. ET 12/28/15.

Docket Numbers: ER16-464-000.

Applicants: Border Winds Energy, LLC.

Description: Notice of Cancellation of Market-Based Rate Tariff and Tariff ID of Border Winds Energy, LLC.

Filed Date: 12/4/15.

Accession Number: 20151204-5138.

Comments Due: 5 p.m. ET 12/28/15.

Take notice that the Commission received the following electric securities filings:

Docket Numbers: ES16-8-000.

Applicants: Southwestern Electric Power Company.

Description: Application Under Section 204 of the Federal Power Act for Authorization to Issue Securities of Southwestern Electric Power Company.

Filed Date: 12/4/15.

Accession Number: 20151204-5139.

Comments Due: 5 p.m. ET 12/28/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2015.
Nathaniel J. Davis, Sr.,
Deputy Secretary.

[FR Doc. 2015-31120 Filed 12-9-15; 8:45 am]

BILLING CODE 6717-01-P